DEPARTMENT OF COMMERCE

International Trade Administration

[A-570-910]

Circular Welded Carbon-Quality Steel Pipe From the People's Republic of China: Final Results of the Expedited Third Sunset Review of the Antidumping Duty Order

AGENCY: Enforcement and Compliance, International Trade Administration, Department of Commerce.

SUMMARY: As a result of this expedited third sunset review, the U.S. Department of Commerce (Commerce) finds that revocation of the antidumping duty (AD) order on circular welded carbon-quality steel pipe from the People's Republic of China (China) would likely lead to continuation or recurrence of dumping at the level indicated in the “Final Results of Expedited Sunset Review” section of this notice.

DATES: Applicable September 11, 2024.

FOR FURTHER INFORMATION CONTACT: Howard Smith, AD/CVD Operations, Office IV, Enforcement and Compliance, International Trade Administration, U.S. Department of Commerce, 1401 Constitution Avenue NW, Washington, DC 20230; telephone: (202) 482-5193.

SUPPLEMENTARY INFORMATION:

Background

After Commerce initiated this sunset review ¹ of the Order,² pursuant to section 751(c) of the Tariff Act of 1930, as amended (the Act), domestic interested parties ³ timely submitted complete notices of intent to participate in,⁴ and an adequate substantive response regarding, the review.⁵ The domestic interested parties claimed interested party status under section 771(9)(C) of the Act as producers of the domestic like product in the United States.⁶ Commerce did not receive a substantive response from any respondent interested party, nor was a hearing requested. Consequently, on June 21, 2024, Commerce notified the U.S. International Trade Commission that it did not receive an adequate substantive response from any respondent interested parties.⁷ As a result, pursuant to section 751(c)(3)(B) of the Act and 19 CFR 351.218(e)(1)(ii)(C)(2), Commerce conducted an expedited (120-day) sunset review of the Order. On July 22, 2024, Commerce tolled certain deadlines in this administrative proceeding by seven days.⁸ The deadline for the final results of this expedited sunset review is now September 5, 2024.

¹ See Initiation of Five-Year (Sunset) Reviews, 89 FR 35073 (May 1, 2024).

² See Notice of Antidumping Duty Order: Circular Welded Carbon Quality Steel Pipe from the People's Republic of China, 73 FR 42547 (July 22, 2008) (Order).

³ The domestic interested parties are Bull Moose Tube Company (Bull Moose), Maruichi American Corporation (Maruichi American), Nucor Tubular Products Inc. (Nucor Tubular) and Zekelman Industries (Zekelman).

⁴ See Bull Moose, Maruichi, and Zekelman's Letter, “Notice of Intent to Participate,” dated May 16, 2024; see also Nucor Tubular's Letter, “Notice of Intent to Participate in Sunset Review,” dated May 16, 2024, (Domestic Interested Parties' Intent to Participate).

⁵ See Domestic Interested Parties' Letter, “Substantive Response to Notice of Initiation,” dated May 31, 2024 (Domestic Interested Parties' Substantive Response).

⁶ See Domestic Interested Parties' Intent to Participate.

⁷ See Commerce's Letter, “Sunset Reviews Initiated on May 1, 2024,” dated June 21, 2024; see also 19 CFR 351.218(3)(1)(ii)(C)(1).

⁸ See Memorandum, “Tolling of Deadlines for Antidumping and Countervailing Duty Proceedings,” inadvertently dated June 22, 2024, rather than July 22, 2024.

Scope of the Order

The merchandise subject to the Order is circular welded carbon- quality steel pipe from China. For a complete description of the scope of the Order, see the Issues and Decisions Memorandum.⁹

⁹ See Memorandum, “Decision Memorandum for the Final Results of the Expedited Sunset Review of the Antidumping Duty Order on Circular Welded Carbon-Quality Steel Pipe from the People's Republic of China,” dated concurrently with, and hereby adopted by, this notice (Issues and Decision Memorandum).

Analysis of Comments Received

A complete discussion of all issues raised in this sunset review, including the likelihood of continuation or recurrence of dumping and the magnitude of the dumping margin likely to prevail if the Order were to be revoked, is provided in the accompanying Issues and Decision Memorandum.¹⁰ A list of the sections in the Issues and Decision Memorandum is in the appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

¹⁰ Id.

Final Results of Expedited Sunset Review

Pursuant to sections 751(c)(1) and 752(c)(1) and (3) of the Act, Commerce determines that revocation of the Order would likely lead to continuation or recurrence of dumping, and that the magnitude of the dumping margins likely to prevail are weighted-average dumping margins up to 85.55 percent.

Administrative Protective Order

This notice serves as the only reminder to parties subject to administrative protective orders (APO) of their responsibility concerning the return or destruction of proprietary information disclosed under APO in accordance with 19 CFR 351.305(a). Timely notification of the return or destruction of APO materials or conversion to judicial protective order, is hereby requested. Failure to comply with the regulations and terms of an APO is a violation which is subject to sanction.

Notification to Interested Parties

We are issuing, and publishing notice of, the results of this sunset review in accordance with sections 751(c), 752(c), and 777(i)(1) of the Act and 19 CFR 351.218(e)(1)(ii)(C)(2) and 19 CFR 351.221(c)(5)(ii).

Dated: September 5, 2024.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely To Prevail

VII. Final Results of Sunset Review

VIII. Recommendation

[FR Doc. 2024-20564 Filed 9-10-24; 8:45 am]

BILLING CODE 3510-DS-P